DEPARTMENT OF JUSTICE

Antitrust Division

Notice Pursuant to the National Cooperative Research and Production Act of 1993—Telemanagement Forum

Notice is hereby given that, on January 26, 2022, pursuant to Section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Marand Software, Ljubljana, SLOVENIA; Suntech S.A., Warszawa, POLAND; conology GmbH, Frankfurt am Main, GERMANY; Full Fibre Limited, Exeter, UNITED KINGDOM; Flytxt B.V., Nieuwegein, THE NETHERLANDS; Crossjoin Solutions Lda, Pragal, PORTUGAL; Saphety, Lisboa, PORTUGAL; Bruhati Solutions Ltd, Maidenhead, UNITED KINGDOM; PT Indosat TBK, Jakarta Pusat, INDONESIA; PT Telekomunikasi Selular, Jakarta Selatan, INDONESIA; NCS Pte Ltd, Singapore, SINGAPORE; Allo Technology, Cyberjaya, MALAYSIA; Airbus, Blagnac, FRANCE; SAS Institute Inc, Cary, NC; Telkom University, Bandung, INDONESIA; GG Media Resources Ltd, Corsham, UNITED KINGDOM; Inselleben.Berlin GmbH, Berlin, GERMANY; Rakuten Mobile, Inc., Tokyo, JAPAN; Juniper Networks Inc, Sunnyvale, CA; Starbucks, Seattle, WA; Panamax Inc., New York, NY; NTS Retail KG, Leonding, AUSTRIA; Lifecell Ventures Coöperatief U.A., Amsterdam, THE NETHERLANDS; Digitral Private Limited, Hyderabad, INDIA; AFR-IX telecom S.L., Barcelona, SPAIN; Kuwadate Inc., Tokyo, JAPAN.

Also, the following members have changed their names: Ciminko Luxembourg, Oryx Gateway, Ahn, LUXEMBOURG; S4Digital, S4-Digital, Lisbon, PORTUGAL; Telekom Austria AG, A1 Group, Vienna, AUSTRIA.

In addition, the following parties have withdrawn as parties to this venture: Altifio, London, UNITED KINGDOM; Avanseus Holdings Pte Limited, Singapore, SINGAPORE; Caribbean Knowledge & Learning Network (CKLN), St George's, GRENADA; Case Western Reserve University Information Technology Services, Cleveland, OH; Center for Digital Technology and Management of the Maximilians-Universität München and Technische Universität München, Munich, GERMANY; Chinese Society For Urban Studies National Smart City Joint Lab, Beijing, PEOPLE'S REPUBLIC OF CHINA; Cloudorizon Ltd, London, UNITED KINGDOM; Ecole De Technologie Supérieure (ETS), Montréal, CANADA; Forschungsinstitut für Rationalisierung, Aachen, GERMANY; Georgia Southern University Computer Science Faculty, Statesboro, GA; Incedo Inc., Santa Clara, CA; Indiana University Luddy School of Informatics and Computing, Bloomington, IN; Innova Bilisim Cozumleri, Cankaya Ankara, TURKEY; IST—International Software Techniques S.A., Marousi, GREECE; King Faisal Foundation, Riyadh, SAUDI ARABIA; L&T Technology Services Limited, Vadodara, INDIA; Labcities, Watford, UNITED KINGDOM; Limerick City and County Council, Limerick, IRELAND; National Technical University of Athens—Network Management & Optimal Design Laboratory, Zofragou, GREECE; Nelson Mandela Metropolitan University, Port Elizabeth, SOUTH AFRICA; Osaka University, Osaka, JAPAN; POWERACT Consulting, Casablanca, MOROCCO; Seconda Universita' di Napoli—Dipartimento di Ingegneria Industriale e dell' Informazione, Aversa (CE), ITALY; Shanghai Academy, Shanghai, PEOPLE'S REPLUBLIC OF CHINA; Starnet Solutii SRL, Chisinau, MOLDOVA; Technical University of Sofia—Department of Telecommunications Networks, Sofia, BULGARIA; TIMIR TOO, Almaty, KAZAKHSTAN; U Mobile Sdn. Bhd., Kuala Lumpur, MALAYSIA; University of Bradford, Bradford, UNITED KINGDOM; University of Calgary, Calgary, CANADA; University of Castilla La Mancha, Ciudad Real, SPAIN; University of Sarajevo, Faculty of Electrical Engineering, Sarajevo, BOSNIA AND HERZEGOVINA; Unryo, Laval, CANADA; Webcircles B.V., Oosterbeek, THE NETHERLANDS; Zen Internet Ltd, Rochdale, UNITED KINGDOM.

No other changes have been made in either the membership or planned activity of the group research project. Membership in this group research project remains open and TM Forum intends to file additional written notifications disclosing all changes in membership.

On October 21, 1988, TM Forum filed its original notification pursuant to Section 6(a) of the Act. The Department of Justice published a notice in the Federal Register pursuant to Section 6(b) of the Act on December 8, 1988 (53 FR 49615).

The last notification was filed with the Department on October 19, 2021. A notice was published in the Federal Register pursuant to Section 6(b) of the Act on November 24, 2021 (86 FR 67079).

Suzanne Morris,
Chief, Premerger and Division Statistics, Antitrust Division.

[FR Doc. 2022-05110 Filed 3-9-22; 8:45 am]

BILLING CODE 4410-11-P